DEPARTMENT OF HEALTH AND HUMAN SERVICES

National Institutes of Health

National Institute On Drug Abuse; Amended Notice of Meeting

Notice is hereby given of a change in the meeting of the Medication Development Research Subcommittee, March 13, 2008, 8 a.m. to March 13, 2008, 5 p.m. Omni Shoreham Hotel, 2500 Calvert Street, NW. Washington, DC, 20008 which was published in the Federal Register on January 9, 2008, Volume 73, Number 6.

The date and the time of the meeting were changed to March 12, 2008, 5 p.m. to March 13, 2008, 5 p.m. The meeting is closed to the public.

Dated: January 23, 2008.
Jennifer Spaeth,
Director, Office of Federal Advisory Committee Policy.

[FR Doc. 08-379 Filed 1-29-08; 8:45 am]

BILLING CODE 4140-01-M